DEPARTMENT OF HEALTH AND HUMAN SERVICES

Administration for Children and Families

Administration for Native Americans Tribal Consultation; Notice of Meeting

AGENCY: Administration for Children and Families, Department of Health and Human Services.

ACTION: Notice of tribal consultation.

SUMMARY: The Department of Health and Human Services (HHS), Administration for Children and Families (ACF) will host a tribal consultation to consult on ACF programs and tribal priorities.

DATES: July 9-10, 2013.

ADDRESSES: 901 D Street SW., 7th Floor Multipurpose Room, Washington, DC 20024.

FOR FURTHER INFORMATION CONTACT: Lillian A. Sparks, Commissioner, Administration for Native Americans at 202-401-5590, by email at Lillian.sparks@acf.hhs.gov or by mail at 370 L'Enfant Promenade SW., 2 West, Washington, DC 20447.

SUPPLEMENTARY INFORMATION: On November 5, 2009, President Obama signed the “Memorandum for the Heads of Executive Departments and Agencies on Tribal Consultation.” The President stated that his Administration is committed to regular and meaningful consultation and collaboration with tribal officials in policy decisions that have tribal implications, including, as an initial step, through complete and consistent implementation of Executive Order 13175.

The United States has a unique legal and political relationship with Indian tribal governments, established through and confirmed by the Constitution of the United States, treaties, statutes, executive orders, and judicial decisions. In recognition of that special relationship, pursuant to Executive Order 13175 of November 6, 2000, executive departments and agencies are charged with engaging in regular and meaningful consultation and collaboration with tribal officials in the development of federal policies that have tribal implications, and are responsible for strengthening the government-to-government relationship between the United States and Indian tribes.

HHS has taken its responsibility to comply with Executive Order 13175 very seriously over the past decade, including the initial implementation of a department-wide policy on tribal consultation and coordination in 1997, and through multiple evaluations and revisions of that policy, most recently in 2010. ACF has also developed its own agency-specific consultation policy that complements the department-wide efforts.

ACF's Administration for Native Americans (ANA) will hold a tribal consultation on the morning of July 9, 2013, to discuss the reauthorization of ANA's authorizing legislation, the Native American Programs Act, and the development of data collection elements to collect information on the impact of ACF funding on the members of a tribal community.

A tribal resource day will begin the afternoon of July 9 and the ACF Tribal Consultation Session will begin the morning of July 10 and continue throughout the day until all discussions have been completed. Other ACF Program Offices that will participate in the consultation include:

• Office of Head Start

• Office of Child Care

• Office of Community Services

• Office of Family Assistance

• Office of Child Support Enforcement

• Administration on Children, Youth and Families:

○ Children's Bureau

○ Family and Youth Services Bureau

To help both you and the ACF principals prepare for this consultation, planning teleconference calls will be held on:

Wednesday, June 5, 2013, 3:00 p.m.—4:00 p.m. (EST).

Wednesday, June 12, 2013, 3:00 p.m.—4:00 p.m. (EST).

Wednesday, June 19, 2013, 3:00 p.m.—4:00 p.m. (EST).

The call-in number and passcode are: 866-763-4038, 354503#.

Testimonies are to be submitted no later than July 2, 2013, to: Lillian Sparks, Commissioner, Administration for Native Americans, 370 L'Enfant Promenade SW., Washington, DC 20447, anacommissioner@acf.hhs.gov.

ACF will provide audio and video conferencing of this session for those tribal leaders unable to attend in person. To register for the consultation and obtain information about the audio/video conference, please follow this link: http://www.regonline.com/tribalconsult2013.

Dated: April 30, 2013.
George H. Sheldon,
Acting Assistant Secretary for Children and Families.

[FR Doc. 2013-10860 Filed 5-7-13; 8:45 am]

BILLING CODE 4184-34-P